FEDERAL MARITIME COMMISSION

[Docket No: 06-08]

In the Matter of the Lawfulness of Unlicensed Persons Acting as Agents for Licensed Ocean Transportation Intermediaries; Notice of Filing of Petition for Declaratory Order

The Commission has received a document styled a Petition for Declaratory Order filed by Team Ocean Services, a licensed OTI. Team seeks a declaratory order affirming that OTIs may lawfully engage unlicensed persons to act as their agent subject to certain requirements as set out in the Petition. Specifically, Team Ocean Services requests that the Commission affirm that it is lawful for OTIs to engage unlicensed persons to act as their agents to perform OTI services, as those are defined in the Commission Rules and Regulations, provided that such agency arrangement meets the following requirements: (1) That it is based on express authority from the OTI contained in a contract; (2) That the contract clearly binds the agent to conduct business on behalf of the OTI principal within the parameters set forth in the contract, and (3) That the arrangement provides that the agent will remain under the control of the OTI principal in performing those activities.

Interested persons may obtain a copy of the petition on the Commission's Web site at http://www.fmc.gov/reading/PetitionsActivity.asp or at the Office of The Secretary, Federal Maritime Commission, 800 North Capitol Street, NW., Room 1046, Washington DC, 20573-0001. Interested persons may reply to the petition by submitting and original and 15 copies of the reply to the Secretary, at the above address, or e-mailing the reply to secretary@fmc.gov on or before Tuesday, October 10, 2006.

Bryant L. VanBrakle,
Secretary.

[FR Doc. E6-13634 Filed 8-17-06; 8:45 am]

BILLING CODE 6730-01-P